OFFICE OF PERSONNEL MANAGEMENT

Announcement of Public Meeting

AGENCY: U.S. Office of Personnel Management.

ACTION: Notice of meeting.

SUMMARY: The Office of Personnel Management will hold a public meeting on June 25, 2010, as part of its hiring reform initiative to hear and consider views on whether normal, competitive hiring is an effective avenue for bringing recent college graduates into the Federal workforce. On May 11, 2010, President Obama issued a Memorandum for the Heads of Executive Departments and Agencies in which he stated that “the Federal Government must recruit and hire highly qualified employees and public service should be a career of choice for the most talented Americans.” This public meeting will constitute one phase of that initiative.

DATES: The meeting will occur on June 25, 2010, from 10 a.m. to 5 p.m. at the Office of Personnel Management, Campbell Auditorium, 1900 E Street, NW., Washington, DC 20415. Notice of this meeting is published well in advance of the meeting to give sufficient notice to interested parties. Members of the public wishing to make an oral presentation at the hearing must submit a written statement on the issue(s) they would like to present, as well as a written request to make an oral presentation at the meeting, on or before June 18, 2010. Members of the public wishing to submit written statements only, must submit such statements by 5 p.m. on June 24, 2010.

ADDRESSES: The meeting will be held at the Office of Personnel Management, Campbell Auditorium, 1900 E Street, NW., Washington, DC 20415. Send written statements and, if desired, requests to make an oral presentation to Ms. Angela Bailey, 1900 E Street, NW., Room 6551, Washington, DC 20415 or hiringevent@opm.gov.

FOR FURTHER INFORMATION CONTACT: Ms. Angela Bailey, Deputy Associate Director for Recruitment and Diversity. She can be reached on 202-606-8097, Angela.Bailey@opm.gov, and at the address listed above.

SUPPLEMENTARY INFORMATION: Objective: The purpose of this meeting is (1) to hear and consider views on whether normal, competitive hiring is an effective avenue for bringing recent college graduates into the Federal workforce and, if so, why that is the case; (2) to ascertain from those who believe that it is not effective, whether this presents a problem for the Federal Government that is sufficiently significant to warrant action or changes to policy; and (3) if action or changes in policy are warranted, to determine what change should be effected and by whom.

Panel Discussions: The meeting will commence with a series of panels to discuss these issues, comprised of individuals from a broad variety of organizations with an interest in Federal hiring.

Public Presentations: Any member of the public may request to make an oral presentation at the hearing. Any such request must be in writing and be accompanied by a written statement addressing the issue(s) on which the individual would like to present. Requests to make an oral presentation and the accompanying written statement must reach Ms. Angela Bailey, Deputy Associate Director for Recruitment and Diversity, on or before June 18, 2010. Individuals who do not wish to make an oral presentation but would like to submit a written statement for consideration must ensure that their statement is received by Ms. Bailey no later than 5 p.m. on June 24, 2010. Submission by e-mail or by a delivery service such as Fedex or UPS is preferred to ensure delivery on time. Oral presentations will be limited to 5 minutes. Members of the public who submit written statements need not make an oral presentation at the hearing. All written statements and oral presentations will become part of the record of proceedings and deliberations.

U.S. Office of Personnel Management.
John Berry,
Director.

[FR Doc. 2010-14520 Filed 6-14-10; 8:45 am]

BILLING CODE 6325-39-P